DEPARTMENT OF COMMERCE

International Trade Administration

[C-821-832, C-274-809]

Urea Ammonium Nitrate Solutions From the Russian Federation and the Republic of Trinidad and Tobago: Postponement of Preliminary Determinations in the Countervailing Duty Investigations

AGENCY: Enforcement and Compliance, International Trade Administration, Department of Commerce

DATES: Applicable August 24, 2021.

FOR FURTHER INFORMATION CONTACT: Kristen Johnson and John Hoffner (the Russian Federation (Russia)) or Ariela Garvett (the Republic of Trinidad and Tobago (Trinidad and Tobago)), AD/CVD Operations, Offices III and IV, Enforcement and Compliance, International Trade Administration, U.S. Department of Commerce, 1401 Constitution Avenue NW, Washington, DC 20230; telephone: (202) 482-4793, (202) 482-3315, and (202) 482-3609, respectively.

SUPPLEMENTARY INFORMATION:

Background

On July 20, 2021, the Department of Commerce (Commerce) initiated countervailing duty (CVD) investigations of imports of urea ammonium nitrate solutions (UAN) from Russia and Trinidad and Tobago.¹ Currently, the preliminary determinations are due no later than September 23, 2021.

¹ See Urea Ammonium Nitrate Solutions from the Russian Federation and the Republic of Trinidad and Tobago: Initiation of Countervailing Duty Investigations, 86 FR 40004 (July 26, 2021).

Postponement of the Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 16, 2021, the petitioner ² submitted a timely request that Commerce postpone the preliminary determinations of the CVD investigations.³ The petitioner stated that it requests postponement to provide adequate time for Commerce to receive and fully analyze the questionnaire responses, issue supplemental questionnaires, and prepare accurate preliminary determinations.⁴ In accordance with 19 CFR 351.205(e), the petitioner has stated the reasons for requesting a postponement of the preliminary determinations, and Commerce finds there are no compelling reason to deny the requests. Therefore, in accordance with section 703(c)(1)(A) of the Act, Commerce is postponing the deadline for the preliminary determinations to no later than 130 days after the date on which these investigations were initiated, i.e., November 29, 2021.⁵ Pursuant to section 705(a)(1) of the Act and 19 CFR 351.210(b)(1), the deadline for the final determinations of these investigations will continue to be 75 days after the date of the preliminary determinations, unless postponed at a later date.

² The petitioner is CF Industries Nitrogen, LLC and its subsidiaries, Terra Nitrogen, Limited Partnership and Terra International (Oklahoma) LLC.

³ See Petitioner's Letters, “Urea Ammonium Nitrate Solutions from the Russian Federation: Petitioner's Request for Postponement of Preliminary Determination,” dated August 16, 2021; and “Urea Ammonium Nitrate Solutions from the Republic of Trinidad and Tobago: Petitioner's Request for Postponement of Preliminary Determination,” dated August 16, 2021.

⁴ Id.

⁵ Postponing the preliminary determinations to 130 days after initiation would place the deadline on Saturday, November 27, 2021. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: August 18, 2021.
Ryan Majerus,
Deputy Assistant Secretary for Policy and Negotiations.

[FR Doc. 2021-18189 Filed 8-23-21; 8:45 am]

BILLING CODE 3510-DS-P